DEPARTMENT OF DEFENSE

Department of the Navy

Notice of Intent To Grant Exclusive Patent License; Nanocrine, Inc.

AGENCY: Department of the Navy, DoD.

ACTION: Notice.

SUMMARY: The Department of the Navy hereby gives notice of its intent to grant to Nanocrine, Inc., of Frederick, Maryland an exclusive license in the field of use of products and services for use in cell biology research for cell signaling and phenotyping studies and the field of use of products and services for use in cell biology research for cell protein and chemical secretion, in the United States, to U.S. Patent 9,791,368: Nanoplasmonic Imaging Technique for the Spatio-temporal Mapping of Single Cell Secretions in Real Time, Navy Case No. 102,395.//U.S. Patent Application No. 15/784,433: Nanoplasmonic Imaging Technique for the Spatio-Temporal Mapping of Single Cell Secretion in Real Time, Navy Case No, 102,395.//U.S. Patent No. 9,915,654: Light Microscopy Chips and Data Analysis Methodology for Quantitative Localized Surface Plasmon Resonance (LSPR) Biosensing and Imaging, Navy Case No. 101,529.//U.S. Patent Application No. 15/882,081: Light Microscopy Chips and Data Analysis Methodology for Quantitative Localized Surface Plasmon Resonance (LSPR) Biosensing and Imaging, Navy Case No. 101,529.//U.S Patent Application No. 14/039,326: Calibrating Single Plasmonic Nanostructures for Quantitative Biosensing, Navy Case No. 102,043.//U.S Patent Application No. 15/186,742: Determining Extracellular Protein Concentration with Nanoplasmonic Sensors, Navy Case No. 103,502.//U.S. Patent Application No. 16/196,097: Substrates with Indendently Tunable Topographies and Chemistries for Quantifying Surface-Induced Cell Behavior, Navy Case No. 107,399 and any continuations, divisionals, or re-issues thereof.

DATES: Anyone wishing to object to the grant of this license must file written objections along with supporting evidence, if any, not later than March 25, 2019.

ADDRESSES: Written objections are to be filed with the Naval Research Laboratory, Code 1004, 4555 Overlook Avenue SW, Washington, DC 20375-5320.

FOR FURTHER INFORMATION CONTACT: Amanda Horansky McKinney, Head, Technology Transfer Office, NRL Code 1004, 4555 Overlook Avenue SW, Washington, DC 20375-5320, telephone 202-767-1644. Due to U.S. Postal delays, please fax 202-404-7920, email: techtran@.nrl.navy.mil or use courier delivery to expedite response.

(Authority: 35 U.S.C. 207, 37 CFR part 404.)

M.S. Werner,
Commander, Judge Advocate General's Corps, U.S. Navy, Federal Register Liaison Officer.

[FR Doc. 2019-04220 Filed 3-7-19; 8:45 am]

BILLING CODE 3810-FF-P